DEPARTMENT OF TRANSPORTATION

Federal Motor Carrier Safety Administration

49 CFR Part 350

[Docket No. FMCSA-2014-0470]

State Inspection Programs for Passenger-Carrying Vehicles; Listening Session

AGENCY: Federal Motor Carrier Safety Administration (FMCSA), DOT.

ACTION: Notice of public listening session.

SUMMARY: FMCSA announces that it will hold a public listening session on April 14, 2015, to solicit information concerning section 32710 of the Moving Ahead for Progress in the 21st Century Act (MAP-21). This provision requires FMCSA to complete a rulemaking proceeding to consider requiring States to establish a program for annual inspections of commercial motor vehicles (CMVs) designed or used to transport passengers. Additionally, under MAP-21, FMCSA must assess the risks associated with improperly maintained or inspected CMVs designed or used to transport passengers; the effectiveness of existing Federal standards for the inspection of such vehicles in mitigating the risks associated with improperly maintained vehicles and ensuring the safe and proper operation condition of such vehicles; and the costs and benefits of a mandatory inspection program. Any data regarding this topic would be appreciated. The session will be held at the Commercial Vehicle Safety Alliance's (CVSA) workshop in Jacksonville, Florida. All comments will be transcribed and placed in the docket referenced above for FMCSA's consideration. The entire proceeding will be webcast.

DATES: The listening session will be held on Tuesday, April 14, 2015, from 3:30 p.m. to 6 p.m., Local Time.

ADDRESSES: The listening session will be held at the Hyatt Regency Jacksonville Riverfront, 225 East Coastline Drive, Jacksonville, FL 32202, in the Clearwater Ballroom. In addition to attending the session in person, the Agency offers several ways to provide comments, as enumerated below.

Internet Address for Live Webcast. FMCSA will post specific information on how to participate via the Internet on the FMCSA Web site at www.fmcsa.dot.gov in advance of the listening sessions.

You may submit comments identified by Docket Number FMCSA-2014-0470 using any of the following methods:

• Federal eRulemaking Portal: http://www.regulations.gov. Follow the online instructions for submitting comments.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., Washington, DC, between 9 a.m. and 5 p.m., Monday through Friday, except Federal holidays.

• Fax: 202-493-2251.

Each submission must include the Agency name and the docket number for this notice. Note that DOT posts all comments received, without change, to www.regulations.gov, including any personal information included in a comment. Please see the Privacy Act heading below. To avoid duplication, please use only one of these four methods. See the “Public Participation and Request for Comments” portion of the SUPPLEMENTARY INFORMATION section for instructions on submitting comments.

• Docket: For access to the docket to read background documents or comments, go to www.regulations.gov at any time or visit Room W12-140 on the ground level of the West Building, 1200 New Jersey Avenue SE., Washington, DC, between 9 a.m. and 5 p.m., ET, Monday through Friday, except Federal holidays. The online Federal document management system is available 24 hours each day, 365 days each year. If you would like acknowledgment that the Agency received your comments, please include a self-addressed, stamped envelope or postcard or print the acknowledgment page that appears after submitting comments on-line.

FOR FURTHER INFORMATION CONTACT: Shannon L. Watson, Senior Policy Advisor, Federal Motor Carrier Safety Administration, 1200 New Jersey Avenue SE., Washington, DC 20590-0001 or by telephone at 202-366-2551. If you have questions on viewing or submitting material to the docket, contact Docket Services, telephone (202) 366-9826.

If you need sign language interpretation or any other accessibility accommodations, please contact Ms. Watson by close of business on Wednesday, April 8, 2015, to allow us to arrange for such services. FMCSA cannot guarantee that interpreter services requested on short notice will be provided.

SUPPLEMENTARY INFORMATION:

Submitting Comments

If you submit a comment, please include the docket number for this notice (FMCSA-2014-0470), and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2014-0470, in the keyword box, and click “Search.” When the new screen appears, click on the “Comment Now!” button and type your comment into the text box on the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

We will consider all comments and material received during the comment period and may draft a request for further comment to support consideration of further regulatory action.

Viewing Comments and Documents

To view comments, as well as any documents mentioned in this preamble as being available in the docket, go to http://www.regulations.gov. Insert the docket number, FMCSA-2014-0470, in the keyword box, and click “Search.” Next, click the “Open Docket Folder” button and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

I. Background

On July 6, 2012, the President signed MAP-21 into law. The new law included certain requirements concerning State inspection programs for passenger-carrying vehicles (e.g., motorcoaches). Specifically, section 32710 requires the Secretary of Transportation to complete a rulemaking proceeding to consider requiring States to establish a program for annual inspections of CMVs designed or used to transport passengers. FMCSA must also include an assessment of the following: (1) The risks associated with improperly maintained or inspected CMVs designed or used to transport passengers; (2) the effectiveness of existing Federal standards for the inspection of such vehicles in (a) mitigating the risks associated with improperly maintained vehicles; and (b) ensuring the safe and proper operation condition of such vehicles; and (3) the costs and benefits of a mandatory inspection program. Any data with regard to the topic would be appreciated.

To help inform consideration of the MAP-21 requirements, the Agency believes it would be helpful to conduct a public listening session to provide all interested parties the opportunity to share their views on the subject. The April 14 meeting is the third in a series of sessions. The previous listening sessions were announced on December 22, 2014 (79 FR 76295) and conducted on January 13 and January 18, 2015. The Agency requests information on the following questions:

• Does your State or the States in which you domicile buses conduct mandatory bus inspections? Are these inspections conducted annually and by State employees or 3rd party inspectors? If conducted by 3rd party inspectors, what oversight is or should be required? What is the cost of these inspections?

• If your State imposes mandatory inspection of buses, how do you assess the effectiveness of such inspections? For example, have you measured the occurrence of bus-involved crashes, injuries and/or fatalities before and after the imposition of a mandatory inspection requirement?

• Which vehicle defects are most prevalent at these inspections? What conclusions do you draw from the results of these inspections?

• Where should these inspections be performed? At a “brick and mortar” facility or at the carrier's place of business? If at the carrier's place of business, what accommodations must be made to ensure appropriate access (e.g. pits, lifts, etc.) to conduct full inspections of motorcoaches and other large vehicles? What should the fees be for the various types of inspections?

• How much does it cost to establish and run inspection programs on an annual basis? Would self-inspection or 3rd party inspections be an option to a State inspection? How would the costs differ? Do you envision other more preferable options?

• Should States allow fleets to self-inspect? How many fleets use their own mechanics, as opposed to 3rd party inspectors, to conduct bus inspections?

• Has your State or organization collected data related to crashes, injuries and/or fatalities attributable to improperly maintained or inspected buses? If so, what conclusions have you drawn from that data?

II. Meeting Participation and Information FMCSA Seeks From the Public

The listening session is open to the public. Speakers should try to limit their remarks to 3-5 minutes. No preregistration is required. Attendees may submit material to the FMCSA staff at the session for inclusion in the pubic docket referenced at the beginning of this notice.

FMCSA will docket the transcripts of the webcast and a separate transcription of the listening session will be prepared by an official court reporter.

Issued on: March 24, 2015.
Larry W. Minor,
Associate Administrator for Policy.

[FR Doc. 2015-07054 Filed 3-26-15; 8:45 am]

BILLING CODE 4910-EX-P